DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Reporting of Sea Turtle Incidental Take in Virginia Chesapeake Bay Pound Net Operations.

Form Number(s): None.

OMB Approval Number: 0648-0470.

Type of Request: Regular submission.

Burden Hours: 102.

Number of Respondents: 41.

Average Hours per Response: 10 minutes.

Needs and Uses: As mandated by the Endangered Species Act of 1973 (16 U.S.C. 1531 et seq.), year-round reporting of sea turtle incidental take is necessary to (1) monitor the level of incidental take in the state-monitored pound net fishery, (2) ensure that the level of take does not exceed the Incidental Take Statement issued in conjunction with the Biological Opinion, and (3) verify that the seasonal pound net leader restrictions are adequate to protect sea turtles. Further, reporting the take of live, injured sea turtles caught in pound net gear will ensure these turtles are transferred immediately to a stranding and rehabilitation center for appropriate medical treatment. The respondents are Virginia pound net fishermen.

Affected Public: Individuals or households; State, Local or Tribal Government.

Frequency: Semi-annually.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 19, 2009.
Glenna Mickelson,
Management Analyst, Office of the Chief Information Officer.

[FR Doc. E9-6488 Filed 3-24-09; 8:45 am]

BILLING CODE 3510-22-P